DEPARTMENT OF HEALTH AND HUMAN SERVICES

Administration for Children and Families

Submission for OMB Review; Comment Request

Title: IV-E Foster Care and Adoption Financial Report.

OMB No.: 0970-0205.

Description: This form is used by States and Puerto Rico to facilitate the reporting of expenditures for the Foster Care and Adoption Assistance programs. State agencies (including Puerto Rico) use this form to report data on a quarterly basis. The form provides specific data regarding financial disbursements, obligations and estimates. It provides States with a mechanism to request grant awards and certify the availability of State matching funds. Failure to collect this data would seriously compromise the Administration for Children and Families' ability to issue grant awards and monitor expenditures. This form is also used to prepare ACF budget submission to Congress.

Respondents: States and Puerto Rico.

Annual Burden Estimates
Instrument | No. of respondents | No. of responses per respondent | Average burden hours per response | Total burden hours
IV-E-1 | 52 | 4/YR | 25 | 5200
Estimated Total Annual Burden Hours |  |  |  | 5200

Additional Information

Copies of the proposed collection may be obtained by writing to The Administration for Children and Families, Office of Information Services, 370 L'Enfant Promenade, SW., Washington, DC 20447, Attn: ACF Reports Clearance Officer.

OMB Comment

OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, 725 17th Street, NW., Washington, DC 20503, Attn: Desk Officer for ACF.

Dated: March 23, 2001.
Bob Sargis,
Reports Clearance Officer.

[FR Doc. 01-7751 Filed 3-28-01; 8:45 am]

BILLING CODE 4184-01-M